NATIONAL AERONAUTICS AND SPACE ADMINISTRATION

[Notice (00-032]

NASA Advisory Council (NAC), Technology Subcommittee of the Earth Systems Science and Applications Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Technology Subcommittee of the Earth Systems Science and Applications Advisory Committee.

DATES: Tuesday, May 2, 2000, 9:00 a.m. to 5:30 p.m. and Wednesday May 3, 2000, 9:00 a.m. to 5:30 p.m.

ADDRESSES: Jet Propulsion Laboratory: 4800 Oak Grove Drive, Building 264, room 654, Pasadena, CA 91109-8099.

FOR FURTHER INFORMATION CONTACT: Mr. Granville Paules, Code YF, National Aeronautics and Space Administration, Washington, DC 20546, 202/358-0706.

SUPPLEMENTARY INFORMATION: The meeting will be open to the public up to the seating capacity of the room. The agenda for the meeting is as follows:

—Welcome by a Senior JPL Manager

—Introductions, Comments, Adoption of the Agenda

—General status of the overall ESE Technology Programs

—Critique of Candidate Technology Roadmaps for Post EOS First Series Missions and for those potentially requiring space flight validation.

—Round Table discussion of recent ESE Vision Workshop Findings and Recommendations by TSC Attendees at the Workshops

—Review of the ESE Technology Development/Investment Plan for FY2000

—Discussion of external partnering opportunities (continued from earlier meetings)

—(Second Day-Tours of JPL Advanced Technology Development Facilities)

It is imperative that the meeting be held on these dates to accommodate the scheduling priorities of the key participants. Visitors will be requested to sign a visitor's register.

Dated: March 30, 2000.
Matthew M. Crouch,
Advisory Committee Management Officer, National Aeronautics and Space Administration.

[FR Doc. 00-8349 Filed 4-4-00; 8:45 am]

BILLING CODE 7510-01-U